DEPARTMENT OF COMMERCE

National Oceanic and Atmospheric Administration

RIN 0648-XB151

New England Fishery Management Council (NEFMC); Public Meeting

AGENCY: National Marine Fisheries Service (NMFS), National Oceanic and Atmospheric Administration (NOAA), Commerce.

ACTION: Notice of a public meeting.

SUMMARY: The New England Fishery Management Council (Council) will hold a 3-day meeting from Tuesday through Thursday, April 24-April 26, 2012, to consider actions affecting New England fisheries in the exclusive economic zone (EEZ).

DATES: The meeting will be held on Tuesday, April 24th, Wednesday, April 25th and Thursday, April 26th beginning at 9 a.m. on Tuesday, and 8:30 a.m. on Wednesday and Thursday.

ADDRESSES: The meeting will be held at the Hilton Hotel, 20 Coogan Boulevard, Mystic, CT 06355-1900; telephone: (860) 572-0731; fax: (860) 572-0328.

Council address: New England Fishery Management Council, 50 Water Street, Mill 2, Newburyport, MA 01950; telephone: (978) 465-0492.

FOR FURTHER INFORMATION CONTACT: Paul J. Howard, Executive Director, New England Fishery Management Council; telephone: (978) 465-0492.

SUPPLEMENTARY INFORMATION:

Tuesday, April 24, 2012

Following introductions and any announcements, brief reports will be presented by the Council Chairman and Executive Director, NOAA Fisheries Regional Administrator (Northeast Region), Northeast Fisheries Science Center and Mid-Atlantic Fishery Management Council liaisons, as well as NOAA General Counsel, representatives of the U.S. Coast Guard and the Atlantic States Marine Fisheries Commission, and staff from the Vessel Monitoring Systems Operations and NOAA's Law Enforcement offices. During this period, the Council will receive an overview of activities related to the development of a Standard Bycatch Reporting Methodology amendment and the possible establishment of a joint Mid-Atlantic and New England Council Committee. That discussion will be followed by a review of any experimental fishery permit applications that have been made available since the January 2012 Council meeting.

Prior to a lunch break, the Council will discuss revising its list of management priorities for 2012 in the context of an Endangered Species Act listing for Atlantic sturgeon and the Council resources that may be required to address that issue.

Following a lunch break, the Council may revise its policies concerning procedures for advisory panel and plan development team operations. The Sea Scallop Committee will ask for approval of research priorities to be used in soliciting proposals funded through the NEFMC's sea scallop research set-aside program. During this report, the Northeast Fisheries Science Center will present information about future plans for the federal sea scallop survey, including the integration of Habcam (towed underwater camera) results with existing survey technologies. The Enforcement Committee will provide recommendations and ask for approval of comments related to: Amendment 5 to the Atlantic Herring Fishery Management Plan (FMP), NOAA's revised enforcement priorities, issues related to coral reef protection, sector landings monitoring and correspondence to the Secretary of Commerce requesting NOAA General Counsel/Northeast participation in NEFMC Enforcement Committee meetings and the continuation of efforts to address the case backlog in New England. The day will conclude with a public listening session during which the Council will hold an informal question and answer session for stakeholders and the public. There also will be an opportunity for anyone to briefly comment on items relevant to Council business that is not otherwise listed on the agenda.

Wednesday, April 25, 2012

The second day of the meeting will begin with an overview of the status of Atlantic sturgeon and the implications of its Endangered Species Act listing for NEFMC fishery management plans, as well as other protected species-related updates. The Monkfish Committee will report next and summarize its discussions about potential remedies to the bycatch of Atlantic sturgeon in the monkfish fishery. There also will be an update on progress to develop Amendment 6 to the Monkfish FMP, an action that will include a catch share management alternative. Prior to a lunch break, representatives of the Northeast Fisheries Science Center will summarize the recent assessment and data updates to 13 Northeast groundfish stocks. The Council's Scientific and Statistical Committee will add to this information by reporting on its review of additional information relating to the status of Gulf of Maine cod. The committee also will provide recommendations for fishing year 2013 Acceptable Biological Catches for a number of stocks in the multispecies complex. The day will conclude with a report from the Groundfish Committee. That group will continue discussions about the management of Gulf of Maine cod, provide an update on the committee's efforts to develop a number of solutions and remedies concerning the sector management program and update the Council about other committee activities.

Thursday, February 2, 2012

The final day of the Council meeting will begin with a report from the Whiting Committee. It will review the recent public hearing comments and then approve final action on the management measures to be included in Amendment 19 to the Northeast Multispecies FMP. The action would establish annual catch limits and accountability measures for stocks of red hake, silver hake and offshore hake. The Habitat Committee will ask for approval of deep sea coral management alternatives to be analyzed further for potential inclusion in Essential Fish Habitat (EFH) Omnibus 2. Following a lunch break, there will be a report on the Spiny Dogfish Fishery Management Plan during which the Council will be asked to approve a range of alternatives for inclusion in the Draft Environmental Impact Statement for Amendment 3 to the plan. The document will be the subject of public review and further decision-making by the Mid-Atlantic and New England Councils. The day will conclude with an update on the development of Draft Amendment 5 to the Herring FMP and its Draft Environmental l Impact Statement including a review of comments received during the Amendment 5 public hearings held in March, 2012 and the Amendment 5 timeline and schedule for completion. The Council also may address any other outstanding business that related to this agenda.

Although other non-emergency issues not contained in this agenda may come before this Council for discussion, those issues may not be the subjects of formal action during the meeting. Council action will be restricted to those issues specifically listed in this notice and any issues arising after publication of this notice that require emergency action under section 305(c) of the Magnuson-Stevens Act, provided that the public has been notified of the Council's intent to take final action to address the emergency.

Special Accommodations

The meeting is physically accessible to people with disabilities. Requests for sign language interpretation or other auxiliary aids should be directed to Paul J. Howard (see ADDRESSES) at least 5 days prior to the meeting date.

Dated: April 3, 2012.
William D. Chappell,
Acting Director, Office of Sustainable Fisheries, National Marine Fisheries Service.

[FR Doc. 2012-8378 Filed 4-5-12; 8:45 am]

BILLING CODE 3510-22-P